DEPARTMENT OF VETERANS AFFAIRS

[OMB Control No. 2900-0222]

Agency Information Collection Activity: Claim for Standard Government Headstone or Marker and Claim for Government Medallion for Placement in Private Cemetery

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before May 17, 2021.

ADDRESSES: Submit written comments on the collection of information through Federal Docket Management System (FDMS) at www.Regulations.gov or to Legislative and Regulatory Services (42E), Department of Veterans Affairs, 810 Vermont Avenue NW, Washington, DC 20420 or email to NCA42EACTION@va.gov. Please refer to “OMB Control No. 2900-0222” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0222” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: VA Form 40-1330, Claim for Standard Government Headstone or Marker, and VA Form 40-1330M, Claim for Government Medallion for Placement in a Private Cemetery.

OMB Control Number: 2900-0222.

Type of Review: Reinstatement with change of a previously approved collection.

Abstract: The National Cemetery Administration (NCA) updated its current VA Form 40-1330 and VA Form 40-1330M. The original VA Form 40-1330 and 40-1330M is a request for a Government-furnished headstone or marker, or medallion, respectively. The updates include the following:

• Information about the Presidential Memorial Certificate (PMC) Program and the option to receive a PMC in addition to the headstone, marker or medallion, consistent with 38 U.S.C. 112.

• Changes in eligibility for a medallion, consistent with 38 U.S.C. 2306(d)(4)(A).

• Addition of race, ethnicity, gender identify, and age demographic information for VA's statistical purposes (see item 11), consistent with Public Law 103-446, Section 509, Center for Minority Veterans and Center for Women Veterans.

• Addition of new emblems of belief consistent with 38 U.S.C. 2306(c) and 38 CFR 38.630(b) and 38.632(b)(2).

• Update parenthetical in Block 12 to (OPTIONAL, BUT IF INCLUDED, NO PAY GRADES)

• Update parenthetical in Block 14 to (OPTIONAL, BUT IF INCLUDED PROVIDE DOCUMENTATION)

• Update parenthetical in Block 16 to (OPTIONAL, BUT IF PROVIDED CHECK ALL APPLICABLE BOXES)

• Addition of statement in the Transportation and Delivery of Marker section for consignee to inspect the headstone or marker for accuracy prior to installation.

• Addition of information and picture of new small flat granite marker, consistent with 38 U.S.C. 2306(c) and 38 CFR 38.630(a).

Upon appropriate approval, the VA website will display the updated version of the VA Form 40-1330 and VA Form 1330M for public use.

Affected Public: Individuals and households.

Estimated Annual Burden: 41,534 hours.

Estimated Average Burden per Respondent: 15 minutes.

Frequency of Response: One time.

Estimated Number of Respondents: 166,135.

By direction of the Secretary.
Maribel Aponte,
VA PRA Clearance Officer, Office of Enterprise and Integration/Data Governance Analytics, Department of Veterans Affairs.

[FR Doc. 2021-05545 Filed 3-17-21; 8:45 am]

BILLING CODE 8320-01-P